DEPARTMENT OF HEALTH AND HUMAN SERVICES

Agency for Healthcare Research and Quality

Correction—Scientific Information Request on Medication Therapy Management

The original date of publication for this Federal Register notice was September 17, 2013, 78 FR 57159. On this publication, the Web site that appears under ADDRESSES is incorrect in page 57159. The correct Web site is: http://effectivehealthcare.AHRQ.gov/index.cfm/submit-scientific-information-packets/

Dated: September 27, 2013.
Richard Kronick,
AHRQ Director.

[FR Doc. 2013-24182 Filed 10-2-13; 8:45 am]

BILLING CODE 4160-90-P